DEPARTMENT OF TRANSPORTATION

Federal Highway Administration

Uniform Relocation Assistance and Real Property Acquisition for Federal and Federally-Assisted Programs; Fixed Payment for Moving Expenses; Residential Moves

AGENCY: Federal Highway Administration (FHWA), Department of Transportation.

ACTION: Notice.

SUMMARY: The purpose of this notice is to publish changes in the Fixed Residential Moving Cost Schedule (schedule) for the States and Territories of Alabama, Alaska, Arkansas, California, Connecticut, Delaware, Florida, Guam, Hawaii, Kentucky, Massachusetts, Michigan, Montana, Nebraska, Nevada, New Mexico, New York, North Dakota, N. Mariana Islands, Ohio, Oklahoma, Puerto Rico, South Dakota, Virgin Islands, Utah, Washington, West Virginia, and Wisconsin as provided for by section 202(b) of the Uniform Relocation Assistance and Real Property Acquisition Policies Act of 1970, as amended (Uniform Act). The schedule amounts for the States and Territories not listed above remain unchanged. The Uniform Act applies to all programs or projects undertaken by Federal Agencies or with Federal financial assistance that cause the displacement of any person.

DATES: The provisions of this notice are effective August 26, 2021, or on such earlier date as an agency elects to begin operating under this schedule.

FOR FURTHER INFORMATION CONTACT: Melissa L. Corder, Office of Real Estate Services, (202) 366-5853, email address: melissa.corder@dot.gov; David Sett, Office of the Chief Counsel, (404) 562-3676, email address: david.Sett@dot.gov; Federal Highway Administration, 1200 New Jersey Avenue SE, Washington, DC 20590. Office hours are from 8:00 a.m. to 4:30 p.m., E.T., Monday through Friday, except Federal holidays.

SUPPLEMENTARY INFORMATION:

Electronic Access

An electronic copy of this document may be downloaded from the Office of the Federal Register's website at www.FederalRegister.gov and the Government Publishing Office's website at www.GovInfo.gov.

Background

The Uniform Relocation Assistance and Real Property Acquisition Policies Act of 1970, as amended, 42 U.S.C. 4601-4655 (Uniform Act), established a program, which includes the payment of moving and related expenses, to assist persons who move because of Federal or federally assisted projects. The FHWA is the lead agency for implementing the provisions of the Uniform Act and has issued governmentwide implementing regulations at 49 CFR part 24.

The following 17 Federal departments and agencies have, by cross-reference, adopted the governmentwide regulations: U.S. Department of Agriculture; U.S. Department of Commerce; U.S. Department of Defense; U.S. Department of Education; U.S. Department of Energy; U.S. Environmental Protection Agency; U.S. General Services Administration; U.S. Department of Health and Human Services; U.S. Department of Homeland Security; U.S. Department of Housing and Urban Development; U.S. Department of Justice; U.S. Department of Labor; National Aeronautics and Space Administration; Tennessee Valley Authority; Federal Emergency Management Agency; U.S. Department of the Interior; and U.S. Department of Veterans Affairs.

42 U.S.C. 4622(b) provides that as an alternative to being paid for actual residential moving and related expenses, a displaced individual or family may elect payment for moving expenses on the basis of a moving expense schedule established by the head of the lead agency. The governmentwide regulations at 49 CFR 24.302 provide that FHWA will develop, approve, maintain, and update this schedule, as appropriate.

The purpose of this notice is to update the schedule published on July 24, 2015, at 80 FR 44182. The schedule is being updated to account for the increased costs associated with moving personal property. The updated amounts are based on review of the respective States' current moving cost market data and any proposed increases to the current schedule amounts as requested from all State highway agencies. This update increases the schedule amounts in the States and Territories of Alabama, Alaska, Arkansas, California, Connecticut, Delaware, Florida, Guam, Hawaii, Kentucky, Massachusetts, Michigan, Montana, Nebraska, Nevada, New Mexico, New York, North Dakota, N. Mariana Islands, Ohio, Oklahoma, Puerto Rico, South Dakota, Virgin Islands, Utah, Washington, West Virginia, and Wisconsin. The schedule amounts for the States and Territories not listed above remain unchanged. The payment amounts listed in the table below apply on a State-by-State basis. Two exceptions apply to all States and Territories as referenced in 49 CFR 24.302. Payment is limited to $100.00 if either of the following conditions applies:

(a) A person has minimal possessions and occupies a dormitory style room, or

(b) A person's residential move is performed by an agency at no cost to the person.

The schedule continues to be based on the “number of rooms of furniture” owned by a displaced individual or family. In the interest of fairness and accuracy, and to encourage the use of the schedule (and thereby simplify the computation and payment of moving expenses), an agency should increase the room count for the purpose of applying the schedule if the volume of possessions in a single room or space actually exceeds the normal contents of one room of furniture or other personal property. For example, a basement may count as two rooms if the equivalent of two rooms worth of possessions is located in the basement. In addition, an agency may elect to pay for items stored outside the dwelling unit by adding the appropriate number of rooms.

Authority: 42 U.S.C. 4622(b) and 4633(b); 49 CFR 1.48 and 24.302.

Stephanie Pollack,
Acting Administrator, Federal Highway Administration.

Uniform Relocation Assistance and Real Property Acquisition Policies Act—Residential Moving Expense and Dislocation Allowance—2021 Payment Schedule
State | 1 room | 2 rooms | 3 rooms | 4 rooms | 5 rooms | 6 rooms | 7 rooms | 8 rooms | Addt'l room | 1 room/ no furn. | Addt'l room no furn.
1. Alabama | 600 | 800 | 1000 | 1200 | 1400 | 1600 | 1800 | 2000 | 250 | 400 | 100
2. Alaska | 850 | 1100 | 1350 | 1625 | 1875 | 2075 | 2300 | 2500 | 350 | 600 | 250
3. American Samoa | 282 | 395 | 508 | 621 | 706 | 790 | 875 | 960 | 85 | 226 | 28
4. Arizona | 700 | 800 | 900 | 1000 | 1100 | 1200 | 1300 | 1400 | 100 | 395 | 60
5. Arkansas | 650 | 900 | 1100 | 1350 | 1600 | 1825 | 2050 | 2275 | 225 | 450 | 125
6. California | 780 | 1000 | 1250 | 1475 | 1790 | 2065 | 2380 | 2690 | 285 | 510 | 100
7. Colorado | 675 | 895 | 1115 | 1270 | 1425 | 1580 | 1735 | 1890 | 155 | 385 | 55
8. Connecticut | 715 | 930 | 1150 | 1350 | 1640 | 1920 | 2200 | 2500 | 175 | 260 | 70
9. Delaware | 700 | 900 | 1100 | 1300 | 1500 | 1700 | 1900 | 2100 | 150 | 500 | 100
10. District of Columbia | 800 | 1000 | 1200 | 1500 | 1700 | 1900 | 2100 | 2300 | 200 | 500 | 100
11. Florida | 800 | 975 | 1150 | 1350 | 1575 | 1750 | 1950 | 2200 | 325 | 550 | 175
12. Georgia | 600 | 975 | 1300 | 1600 | 1875 | 2125 | 2325 | 2525 | 200 | 375 | 100
13. Guam | 850 | 1200 | 1550 | 1900 | 2200 | 2500 | 2750 | 3000 | 350 | 300 | 175
14. Hawaii | 850 | 1200 | 1550 | 1900 | 2200 | 2500 | 2750 | 3000 | 350 | 300 | 175
15. Idaho | 600 | 800 | 1000 | 1200 | 1400 | 1600 | 1800 | 2000 | 200 | 350 | 100
16. Illinois | 850 | 1000 | 1150 | 1250 | 1400 | 1600 | 1750 | 2050 | 450 | 650 | 150
17. Indiana | 500 | 700 | 900 | 1100 | 1300 | 1500 | 1700 | 1900 | 200 | 400 | 100
18. Iowa | 550 | 700 | 800 | 900 | 1000 | 1100 | 1225 | 1350 | 125 | 500 | 50
19. Kansas | 400 | 600 | 800 | 1000 | 1200 | 1400 | 1600 | 1800 | 200 | 250 | 50
20. Kentucky | 700 | 900 | 1100 | 1300 | 1500 | 1700 | 1900 | 2100 | 200 | 400 | 100
21. Louisiana | 600 | 800 | 1000 | 1200 | 1300 | 1550 | 1700 | 1900 | 300 | 400 | 70
22. Maine | 650 | 900 | 1150 | 1400 | 1650 | 1900 | 2150 | 2400 | 250 | 400 | 100
23. Maryland | 700 | 900 | 1100 | 1300 | 1500 | 1700 | 1900 | 2100 | 200 | 500 | 100
24. Massachusetts | 800 | 950 | 1100 | 1250 | 1400 | 1550 | 1700 | 1850 | 250 | 450 | 150
25. Michigan | 750 | 1000 | 1200 | 1350 | 1500 | 1650 | 1800 | 1950 | 300 | 500 | 200
26. Minnesota | 575 | 725 | 925 | 1125 | 1325 | 1525 | 1725 | 1925 | 275 | 450 | 150
27. Mississippi | 750 | 850 | 1000 | 1200 | 1400 | 1550 | 1700 | 1850 | 300 | 400 | 100
28. Missouri | 800 | 900 | 1000 | 1100 | 1200 | 1300 | 1400 | 1500 | 200 | 400 | 100
29. Montana | 550 | 750 | 950 | 1150 | 1350 | 1550 | 1750 | 1950 | 200 | 350 | 100
30. Nebraska | 400 | 600 | 800 | 1000 | 1200 | 1400 | 1600 | 1800 | 200 | 350 | 50
31. Nevada | 700 | 900 | 1100 | 1300 | 1500 | 1700 | 1900 | 2100 | 200 | 450 | 150
32. New Hampshire | 500 | 700 | 900 | 1100 | 1300 | 1500 | 1700 | 1900 | 200 | 200 | 150
33. New Jersey | 650 | 750 | 850 | 1000 | 1150 | 1300 | 1400 | 1600 | 200 | 200 | 50
34. New Mexico | 650 | 850 | 1050 | 1250 | 1500 | 1650 | 1850 | 2050 | 200 | 400 | 60
35. New York | 675 | 900 | 1125 | 1350 | 1575 | 1800 | 2025 | 2250 | 225 | 400 | 125
36. North Carolina | 550 | 750 | 1050 | 1200 | 1350 | 1600 | 1700 | 1900 | 150 | 350 | 50
37. North Dakota | 550 | 750 | 950 | 1150 | 1350 | 1550 | 1750 | 1950 | 200 | 475 | 75
38. N. Mariana Is | 350 | 550 | 700 | 850 | 1000 | 1100 | 1200 | 1300 | 100 | 300 | 70
39. Ohio | 600 | 800 | 1000 | 1200 | 1400 | 1600 | 1800 | 2000 | 200 | 400 | 100
40. Oklahoma | 750 | 950 | 1150 | 1350 | 1550 | 1750 | 1900 | 2050 | 200 | 350 | 100
41. Oregon | 600 | 800 | 1000 | 1200 | 1400 | 1600 | 1800 | 2000 | 200 | 350 | 100
42. Pennsylvania | 500 | 750 | 1000 | 1200 | 1400 | 1600 | 1800 | 2000 | 200 | 400 | 70
43. Puerto Rico | 525 | 725 | 900 | 1225 | 1300 | 1350 | 1400 | 1450 | 150 | 300 | 50
44. Rhode Island | 600 | 850 | 1000 | 1200 | 1400 | 1600 | 1800 | 2000 | 150 | 300 | 100
45. South Carolina | 700 | 805 | 1095 | 1285 | 1575 | 1735 | 1890 | 2075 | 225 | 500 | 75
46. South Dakota | 500 | 650 | 800 | 950 | 1100 | 1250 | 1400 | 1600 | 200 | 300 | 100
47. Tennessee | 500 | 750 | 1000 | 1250 | 1500 | 1750 | 2000 | 2250 | 250 | 400 | 100
48. Texas | 600 | 800 | 1000 | 1200 | 1400 | 1600 | 1750 | 1900 | 150 | 400 | 50
49. Utah | 750 | 950 | 1150 | 1350 | 1550 | 1750 | 1950 | 2150 | 200 | 600 | 200
50. Vermont | 400 | 550 | 650 | 850 | 1000 | 1100 | 1200 | 1300 | 150 | 300 | 75
51. Virgin Islands | 500 | 700 | 900 | 1050 | 1200 | 1350 | 1500 | 1700 | 150 | 450 | 100
52. Virginia | 700 | 900 | 1100 | 1300 | 1500 | 1700 | 1900 | 2100 | 300 | 400 | 75
53. Washington | 800 | 1100 | 1400 | 1700 | 2000 | 2300 | 2600 | 2900 | 300 | 500 | 100
54. West Virginia | 750 | 900 | 1050 | 1200 | 1400 | 1600 | 1800 | 2000 | 200 | 400 | 100
55. Wisconsin | 600 | 825 | 1050 | 1275 | 1500 | 1725 | 1950 | 2175 | 250 | 465 | 115
56. Wyoming | 540 | 800 | 870 | 1020 | 1170 | 1325 | 1500 | 1670 | 200 | 370 | 60
Exceptions: 1. The payment to a person with minimal possessions who is in occupancy of a dormitory style room or whose residential move is performed by an agency at no cost to the person is limited to $100.00.
2. An occupant will be paid on an actual cost basis for moving his or her mobile home from the displacement site. In addition, a reasonable payment to the occupant for packing and securing property for the move may be paid at the agency's discretion.

[FR Doc. 2021-15930 Filed 7-26-21; 8:45 am]

BILLING CODE 4910-22-P